DEPARTMENT OF ENERGY

Office of Science; Notice of Renewal of the High Energy Physics Advisory Panel

Pursuant to Section 14(a)(2)(A) of the Federal Advisory Committee Act, App.2, and section 102-3.65, title 41, Code of Federal Regulations and following consultation with the Committee Management Secretariat, General Services Administration, notice is hereby given that the High Energy Physics Advisory Panel has been renewed for a two-year period, beginning in January 2003.

The Panel will provide advice to the Director of the Office of Science (DOE), and the Assistant Director, Mathematical & Physical Sciences Directorate (NSF), on long-range planning and priorities in the national high-energy physics program. The Secretary of Energy has determined that renewal of the Panel is essential to conduct business of the Department of Energy and the National Science Foundation and is in the public interest in connection with the performance of duties imposed by law upon the Department of Energy. The Panel will continue to operate in accordance with the provisions of the Federal Advisory Committee Act (Pub. L. No. 92-463), the General Services Administration Final Rule on Federal Advisory Committee Management, and other directives and instructions issued in implementation of those acts.

FOR FURTHER INFORMATION CONTACT: Ms. Rachel Samuel at (202) 586-3279.

Issued in Washington, DC on January 24, 2003.
James N. Solit,
Advisory Committee Management Officer.

[FR Doc. 03-2300 Filed 1-30-03; 8:45 am]

BILLING CODE 6450-01-P